ENVIRONMENTAL PROTECTION AGENCY

[OECA-2003-0040; FRL-7521-8]

Agency Information: Collection Activities; Submission for OMB Review and Approval; Comment Request; NSPS for Flexible Vinyl and Urethane Coating and Printing, EPA ICR Number 1157.07, OMB Number 2060-0073

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Flexible Vinyl and Urethane Coating and Printing, OMB Control Number 2060-0073, EPA ICR Number 1157.07. The ICR, which is abstracted below, describes the nature of the information collection and its estimated burden and cost.

DATES: Additional comments may be submitted on or before August 1, 2003.

ADDRESSES: Follow the detailed instructions under SUPPLEMENTARY INFORMATION.

FOR FURTHER INFORMATION CONTACT: Learia Williams, Compliance Assessment and Media Programs Division, Office of Compliance, (Mail Code 2223A), Environmental Protection Agency, 1200 Pennsylvania Avenue, NW, Washington, DC 20460; telephone number: (202) 564-4113; fax number: (202) 564-0050; e-mail address: williams.learia@epa.gov.

SUPPLEMENTARY INFORMATION: EPA has submitted the following ICR to OMB for review and approval according to the procedures prescribed in 5 CFR 1320.12. On September 26, 2002 (67 FR 60672), EPA sought comments on this ICR pursuant to 5 CFR 1320.8(d). EPA received no comments.

EPA has established a public docket for this ICR under Docket ID Number OECA-2003-0040, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1514. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice, and according to the following detailed instructions: (1) Submit your comments to EPA online using EDOCKET (our preferred method), by e-mail to docket.oeca@epa.gov, or by mail to: EPA Docket Center, Environmental Protection Agency, Mail Code: 2201T, 1200 Pennsylvania Avenue, NW., Washington, DC 20460, and (2) mail your comments to OMB at: Office of Information and Regulatory Affairs, Office of Management and Budget (OMB), Attention: Desk Officer for EPA, 725 17th Street, NW., Washington, DC 20503.

EPA's policy is that public comment, whether submitted electronically or on paper, will be available for public viewing in EDOCKET, as EPA receives them without change, unless the comment contains copyrighted material, Confidential Business Information (CBI), or other information whose public disclosure is restricted by statute. When EPA identifies a comment containing copyrighted material, EPA will provide a reference to that material in the version of the comment placed in EDOCKET. The entire printed comment, including copyrighted material, will be available in the public docket. Although identified as an item in the official docket, information claimed as CBI, or whose disclosure is otherwise restricted by statute, is not included in the official public docket, and will not be available for public viewing in EDOCKET. For further information about the electronic docket, see EPA's notice describing the electronic docket at 67 FR 38102 (May 31, 2002), or go to www.epa.gov/edocket.

Title: NSPS for Flexible Vinyl and Urethane Coating and Printing (40 CFR part 60, subpart FFF), OMB Control Number 2060-0073, EPA ICR Number 1157.07. This is a request to renew an existing, approved collection that is scheduled to expire on June 30, 2003. Under OMB regulations, the Agency may continue to conduct or sponsor the collection of information while this submission is pending at OMB.

Abstract: The NSPS for Flexible Vinyl and Urethane Coating and Printing, published at 40 CFR part 60, subpart FFF, were proposed on January 18, 1983, and promulgated on June 29, 1984. These standards of performance for this category of new stationary sources of hazardous air pollutants are required by section 111 of the Clean Air Act. Facilities may meet the standards by using materials with a low concentration of Volatile Organic Compounds (VOCs), or by installing emission control devices. The information that is required to be submitted to the Agency or kept at the facility is needed to insure compliance with the regulation. These include initial one-time notifications, performance tests plans and reports and records of maintenance and shutdown, startup, and malfunctions. For facilities that install continuous monitoring system (CMS) there are performance tests, and maintenance reports. Excess emissions reports are submitted semiannually. Responses to the collection of information are mandatory (40 CFR part 60, subpart FFF).

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information are estimated to average 14 (rounded) hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Flexible Vinyl and Urethane Coating and Printing Manufacturers.

Estimated Number of Respondents: 20.

Frequency of Response: Semiannually, initially.

Estimated Total Annual Hour Burden: 593.

Estimated Total Capital and Operations & Maintenance (O & M) Annual Costs: $61,000.

Changes in the Estimates: There is an increase of 78 hours in the total estimated burden currently identified in the OMB Inventory of Approved ICR Burdens. This increase in burden from the most recently approved ICR is due to more accurate estimates of existing sources. We have assumed that there will be one new source (respondent) over the three years period of this ICR. The change in respondent cost is also due to a labor rate change where the rate has increased over the three years period of this ICR.

Dated: June 24, 2003.
Doreen Sterling,
Acting Director, Collection Strategies Division.

[FR Doc. 03-16734 Filed 7-1-03; 8:45 am]

BILLING CODE 6560-50-P